DEPARTMENT OF HEALTH AND HUMAN SERVICES

National Institutes of Health

National Institute of Neurological Disorders and Stroke Amended; Notice of Meeting

Notice is hereby given of a change in the meeting of the National Institute of Neurological Disorders and Stroke Special Emphasis Panel, October 31, 2014, 12:00 p.m. to October 31, 2014, 3:00 p.m., National Institutes of Health, Neuroscience Center, 6001 Executive Boulevard, Rockville, MD 20852 which was published in the Federal Register on October 15, 2014, 79FRN61884.

The meeting date and time has been changed to November 11, 2014 from 11:00 a.m. to 4:00 p.m. The location remains the same. The meeting is closed to the public.

Dated: October 17, 2014.
Carolyn Baum,
Program Analyst, Office of Federal Advisory Committee Policy.

[FR Doc. 2014-25181 Filed 10-22-14; 8:45 am]

BILLING CODE 4140-01-P